DEPARTMENT OF HEALTH AND HUMAN SERVICES

[Document Identifier: OS-0990-New; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Written comments and recommendations for the proposed information collections must be received within 30 days of this notice directly to the OS OMB Desk Officer all comments must be faxed to OMB at 202-395-6974.

Proposed Project: Evaluation of Healthy People 2010 Users—New—Office of the Assistant Secretary for Planning and Evaluation (ASPE)).

Abstract: Office of the Assistant Secretary for Planning and Evaluation (ASPE), Office of Disease Prevention and Health Promotion (ODPHP) is seeking OMB approval to conduct a short survey using a self-administered questionnaire of state, local, and tribal health organizations. The survey will be administered through mail and respondents will have the option to complete the survey as a web-based electronic survey. Healthy People 2010 (HP2010) is an important Federal initiative that establishes national health promotion and disease prevention goals. HP2010 represents the third of a series of publications by HHS that specifies ten-year health objectives for the nation. Its overarching goals are to increase the quality and years of healthy life and eliminate health disparities.

HP2010 consists of 28 primary focus areas and 467 measurable health objectives designed to identify the most significant preventable threats to health and to establish public health priorities. The central theme of HP2010 focuses on the role of communities and community partnerships in promoting healthy living in the U.S. HP2010 is a powerful force in the effort to promote health and prevent disease in the U.S. The agenda reflects extensive consultation with over 350 national organizations, 250 state agencies, health experts, and the public.

HHS is eager to document the utilization of HP2010, and to seek input from key users on how the next iteration of the initiative, Healthy People 2020, could be improved to encourage greater involvement. This study will identify examples of effective strategies and approaches to using HP2010, and, where possible, the short-term results of those efforts.

Estimated Annualized Burden Table
Type of respondent | Number of respondents | Number of responses per respondent | Average burden per response (in hrs) | Total burden hours
State Healthy People Coordinators (Frame A) | 51 | 1 | 15/60 | 13
State Chronic Disease Program Directors (Frame A) | 51 | 1 | 15/60 | 13
Local Health Organizations (Frame B) | 300 | 1 | 15/60 | 75
Tribal Health Organizations (Frame C) | 100 | 1 | 15/60 | 25
Total |  |  |  | 126

Terry Nicolosi,
Office of the Secretary, Paperwork Reduction Act Reports Clearance Officer.

[FR Doc. E8-11031 Filed 5-15-08; 8:45 am]

BILLING CODE 4150-32-P